DEPARTMENT OF COMMERCE

National Oceanic and Atmospheric Administration

RIN 0648-XC322

Endangered Species; File No. 16248

AGENCY: National Marine Fisheries Service (NMFS), National Oceanic and Atmospheric Administration (NOAA), Commerce.

ACTION: Issuance of permit.

SUMMARY: Notice is hereby given that the Riverbanks Zoo and Garden, P.O. Box 1060, Columbia, South Carolina 29202 [Jennifer Rawlings, Responsible Party], has been issued a permit to hold shortnose sturgeon (Acipenser brevirostrum) for the purposes of enhancement.

ADDRESSES: The permit and related documents are available for review upon written request or by appointment in the following offices:

Permits and Conservation Division, Office of Protected Resources, NMFS, 1315 East-West Highway, Room 13705, Silver Spring, MD 20910; phone (301) 427-8401; fax (301) 713-0376; and

Southeast Region, NMFS, 263 13th Ave. South, St. Petersburg, FL 33701; phone (727) 824-5312; fax (727) 824-5309.

FOR FURTHER INFORMATION CONTACT: Colette Cairns or Jennifer Skidmore, (301) 427-8401.

SUPPLEMENTARY INFORMATION: On October 30, 2012, notice was published in the Federal Register (77 FR 65673) that a request for an enhancement permit to take shortnose sturgeon had been submitted by the above-named organization. The requested permit has been issued under the authority of the Endangered Species Act of 1973, as amended (ESA; 16 U.S.C. 1531 et seq.) and the regulations governing the taking, importing, and exporting of endangered and threatened species (50 CFR parts 222-226).

The Riverbanks Zoo and Garden has been issued a permit to continue enhancement activities previously authorized under Permit No. 1589. Activities include the care and maintenance of two captive-bred, non-releasable shortnose sturgeon. The display is used to increase public awareness of the shortnose sturgeon and its status by educating the public on shortnose sturgeon life history and the reasons for the species decline. The project to display endangered cultured shortnose sturgeon responds directly to a recommendation from the NMFS recovery plan outline for this species. The permit does not authorize any takes from the wild, nor does it authorize any release of captive sturgeon into the wild. The permit is valid for five years.

Issuance of this permit, as required by the ESA, was based on a finding that such permit (1) was applied for in good faith, (2) will not operate to the disadvantage of such endangered or threatened species, and (3) is consistent with the purposes and policies set forth in section 2 of the ESA.

Dated: January 23, 2013.
P. Michael Payne,
Chief, Permits and Conservation Division, Office of Protected Resources, National Marine Fisheries Service.

[FR Doc. 2013-01701 Filed 1-25-13; 8:45 am]

BILLING CODE 3510-22-P